DEPARTMENT OF COMMERCE

National Oceanic and Atmospheric Administration

National Sea Grant Advisory Board

AGENCY: National Oceanic and Atmospheric Administration, Commerce.

ACTION: Notice of public meeting.

SUMMARY: This notice sets forth the schedule and proposed agenda of a forthcoming meeting of the Sea Grant Advisory Board (Board). Board members will discuss and provide advice on the National Sea Grant College Program in the areas of program evaluation, strategic planning, education and extension, science and technology programs, and other matters as described in the Agenda below.

DATES: The announced meeting is scheduled for Wednesday August, 26-Friday August 28, 2009.

ADDRESSES: The meeting will be held at the Mayflower Park Hotel, 405 Olive Way, Seattle, WA 98101.

FOR FURTHER INFORMATION CONTACT: Ms. Melissa Pearson, National Sea Grant College Program, National Oceanic and Atmospheric Administration, 1315 East-West Highway, Room 11704, Silver Spring, Maryland 20910, 301-734-1083.

SUPPLEMENTARY INFORMATION: The Board, which consists of a balanced representation from academia, industry, state government and citizens groups, was established by Section 209 of the Sea Grant Program Improvement Act of 1976 (Pub. L. 94-461, 33 U.S.C. 1128). The duties of the Board were amended by the National Sea Grant College Program Amendments Act of 2008 (Pub. L. 110-394). The Board advises the Secretary of Commerce and the Director of the National Sea Grant College Program with respect to operations under the Act, and such other matters as the Secretary refers to them for review and advice.

The Agenda for the meeting can be found at: http://www:seagrant.noaa.gov/leadership/advisoryboard/agenda 0809.pdf.

Dated: July 24, 2009.
Mark E. Brown,
Chief Financial Officer, Office of Oceanic and Atmospheric Research, National Oceanic and Atmospheric Administration.

[FR Doc. E9-18234 Filed 7-30-09; 8:45 am]

BILLING CODE 3510-KA-P